DEPARTMENT OF COMMERCE

Foreign-Trade Zones Board

[Docket 61-2002]

Foreign-Trade Zone 124—Gramercy, LA, Application for Subzone, Ergon St. James, Inc. (Oil Terminal); St. James, LA

An application has been submitted to the Foreign-Trade Zones Board (the Board) by the Port of South Louisiana, grantee of FTZ 124, requesting special-purpose subzone status for the oil terminal facilities of Ergon St. James, Inc. (Ergon), located in St. James, Louisiana. The application was submitted pursuant to the provisions of the Foreign-Trade Zones Act, as amended (19 U.S.C. 81a-81u), and the regulations of the Board (15 CFR part 400). It was formally filed on December 17, 2002.

The Ergon facilities (718 acres, 7 tanks, 1.5 million barrel capacity) are located at 7405 Highway 18, St. James, Louisiana. The terminal facilities (12 employees), are used for the receipt, storage, and distribution of crude oil to the Ergon Refining, Inc. refinery in Vicksburg, Mississippi. All of the crude oil is sourced from abroad. Ergon Refining, Inc. has also submitted an application for subzone status at its Vicksburg refinery (Docket 61-2002).

Zone procedures would allow Ergon to defer duty payments until merchandise is shipped from the facility and entered for consumption. The company has applied for subzone status at its refinery and terminal so that crude oil could be shipped from the St. James terminal to the Vicksburg refinery in zone status. The request indicates that the savings from FTZ procedures would help improve the company's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building, Suite 4100W, 1099 14th St. NW., Washington, DC 20005; or

2. Submissions Via the U.S. Postal Service: Foreign-Trade-Zones Board, U.S. Department of Commerce, FCB, Suite 4100W, 1401 Constitution Ave. NW., Washington, DC 20230.

The closing period for their receipt is February 25, 2003. Rebuttal comments in response to material submitted during the foregoing period may be submitted during the subsequent 15-day period (to March 12, 2003).

A copy of the application and accompanying exhibits will be available for public inspection at the Office of the Foreign-Trade Zones Board's Executive Secretary at the first address listed above, and at the U.S. Department of Commerce Export Assistance Center, One Canal Place, 365 Canal Street, Suite 1170, New Orleans, LA 70130.

Dated: December 18, 2002.
Dennis Puccinelli,
Executive Secretary.

[FR Doc. 02-32729 Filed 12-26-02; 8:45 am]

BILLING CODE 3510-DS-P